DEPARTMENT OF COMMERCE

Foreign-Trade Zones Board

[Docket 8-2004]

Foreign-Trade Zone 66—Wilmington, NC; Request for Processing Authority, Siemens Westinghouse Power Corporation (Industrial Power Generating Equipment)

An application has been submitted to the Foreign-Trade Zones Board (the Board) by the North Carolina Department of Commerce, grantee of FTZ 66, pursuant to § 400.28(a)(2) of the Board's regulations (15 CFR part 400), requesting authority on behalf of Siemens Westinghouse Power Corporation (SWPC) to process foreign-origin and domestic industrial power generating equipment under FTZ procedures within FTZ 66. It was formally filed on March 9, 2004.

SWPC is a producer of large industrial power generating turbines and generators that are installed in combined-cycle power plants operated by electric generation utilities. In the proposed processing activity (as defined in § 400.2(l)), foreign-origin steam turbines with a capacity of greater than 100 megawatts (HTSUS 8406.81.1070) would be admitted to the zone under nonprivileged foreign status (19 CFR 146.42) and U.S.-produced electric generators would be admitted under domestic status on a nonconcurrent basis. The turbines and generators would then be transferred from the zone in a combined Customs entry under the classification of electric generating sets (HTSUS 8502.39.0000), as provided by specific Customs rulings. The company indicates that this activity would occur on a recurring regular basis.

FTZ procedures would exempt SWPC from Customs duty payments on the foreign power generation turbines processed for export as electric generating sets. On withdrawals from the zone for Customs entry, SWPC would be able to elect the duty rate that applies to electric generator sets (2.5%) for the foreign turbines (6.7%). The application indicates that the savings from FTZ procedures would help improve the SWPC's international competitiveness.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is April 12, 2004. Rebuttal comments in response to material submitted during the foregoing period may be submitted during the subsequent 15-day period (to April 20, 2004).

A copy of the application will be available for public inspection at the Office of the Foreign-Trade Zones Board's Executive Secretary at address No.1 listed above.

Dated: March 9, 2004.
Dennis Puccinelli,
Executive Secretary.

[FR Doc. 04-5921 Filed 3-15-04; 8:45 am]

BILLING CODE 3510-DS-P